DEPARTMENT OF AGRICULTURE

Commodity Credit Corporation

7 CFR Part 1487

RIN 0551-AA71

Technical Assistance for Specialty Crops

AGENCY: Foreign Agricultural Service and Commodity Credit Corporation, USDA.

ACTION: Proposed rule.

SUMMARY: This proposed rule would amend the regulations used to administer the Technical Assistance for Specialty Crops (TASC) program by increasing the amount of funding per proposal to $500,000 in a given year, extending the allowable length of an activity to 5 years; and by allowing up to five approved projects for any one TASC participant at any given time.

DATES: Comments concerning this proposed rule must be received by January 2, 2009 to be assured consideration.

ADDRESSES: Comments may be submitted by any of the following methods:

• Federal eRulemaking Portal: Go to http://www.regulations.gov. Follow the online instructions for submitting comments.

• E-Mail: ppsadmin@fas.usda.gov.

• Fax: (202) 720-9361.

• Hand Delivery or Courier: U.S. Department of Agriculture, Foreign Agricultural Service, Program Policy Staff, Portals Office Building, Suite 400, 1250 Maryland Ave., SW., Washington, DC 20024.

• U.S. Postal Delivery: U.S. Department of Agriculture, Foreign Agricultural Service, Program Policy Staff, Stop 1023, 1400 Independence Ave., SW., Washington, DC 20250-1042.

Comments may be inspected in Suite 400, Portals Building, 1250 Maryland Avenue, SW., Washington, DC, between 8 a.m. and 4:30 p.m., Monday through Friday, except holidays. A copy of this proposed rule is available through the FAS home page at http://www.fas.usda.gov/mos/programs/TASC.asp.

FOR FURTHER INFORMATION CONTACT: Mark Slupek at (202) 720-4327, fax at (202) 720-9361, or by e-mail at: ppsadmin@fas.usda.gov.

SUPPLEMENTARY INFORMATION:

Background

This proposed rule changes three existing TASC limitations. First, it increases the funding cap on individual proposals from $250,000 to $500,000 per year. Second, it increases the maximum duration of an activity from 3 years to 5 years. Finally, it increases the number of approved projects from three to five that a TASC participant can have underway at any given time. These changes are consistent with the Administration's position regarding the TASC program.

Executive Order 12866

This proposed rule is issued in conformance with Executive Order 12866. It has been determined to be not significant for the purposes of Executive Order 12866 and was reviewed by the Office of Management and Budget (OMB). A cost-benefit assessment of this rule was not completed.

Executive Order 12988

This rule has been reviewed in accordance with Executive Order 12988. This rule would preempt State laws to the extent such laws are inconsistent with it. This rule would not be retroactive.

Executive Order 12372

This program is not subject to Executive Order 12372, which requires intergovernmental consultation with State and local officials. See the notice related to 7 CFR part 3015, subpart V, published at 48 FR 29115 (June 24, 1983).

Regulatory Flexibility Act

The Regulatory Flexibility Act does not apply to this rule because FAS is not required by 5 U.S.C. 553 or any other law to publish a notice of proposed rulemaking with respect to the subject matter of this rule.

Environmental Assessment

FAS has determined that this proposed rule does not constitute a major State or Federal action that would significantly affect the human or natural environment consistent with the National Environmental Policy Act (NEPA), 40 CFR part 1502.4, Major Federal actions requiring the preparation of Environmental Impact Statements, and Compliance with NEPA implementing the regulations of the Council on Environmental Quality, 40 CFR parts 1500-1508. Therefore, no environmental assessment or environmental impact statement will be prepared.

Unfunded Mandates

Although CCC is publishing this as a proposed rule, Title II of the Unfunded Mandates Reform Act of 1995 (UMRA) does not apply to this rule. CCC is not required by 5 U.S.C. 553 or any other law to publish a notice of proposed rulemaking for the subject of this rule. Further, this rule contains no unfunded mandates as defined in sections 202 and 205 of UMRA. Nor does this rule potentially affect small governments or contain significant Federal intergovernmental mandates.

Paperwork Reduction Act of 1995

In accordance with the Paperwork Reduction Act of 1995, FAS has previously received approval from the Office of Management and Budget (OMB) with respect to the information collection required to support this program. The information collection is described below:

Title: Technical Assistance for Specialty Crops.

OMB Control Number: 0551-0038.

E-Government Act Compliance

FAS is committed to complying with the E-Government Act, to promote the use of the Internet and other information technologies to provide increased opportunities for citizen access to Government information and services, and for other purposes. The forms, regulations, and other information collection activities required to be utilized by a person subject to this rule are available at http://www.fas.usda.gov.

List of Subjects in 7 CFR Part 1487

Agricultural commodities, Exports, Specialty crops.

For the reasons set out in the preamble, under the authority of 5 U.S.C. 553; 15 U.S.C. 714b and 714c, 7 CFR part 1487 is proposed to be amended as follows:

PART 1487—TECHNICAL ASSISTANCE FOR SPECIALTY CROPS

1. The authority citation for part 1487 continues to read as follows:

Authority: Section 3205 of Public Law 107-171.

2. Revise § 1487.4 to read as follows:

§ 1487.4 Are there any limits on the scope of proposals?

(a) Funding cap. TASC proposals which request more than $500,000 of CCC funding in a given year will not be considered.

(b) Length of activities. Funding will not be provided for projects that have received TASC funding for five years. The five years do not need to be consecutive.

(c) Target countries. Proposals may target all export markets, including single countries or reasonable regional groupings of countries.

(d) Multiple proposals. Applicants may submit multiple proposals, but no TASC participant may have more than five approved projects underway at any given time.

3. Amend § 1487.6 by revising paragraph (b) to read as follows:

§ 1487.6 What are the criteria for evaluating proposals?

* * * * *

(b) Evaluation process. FAS will review all proposals for eligibility and completeness, and will evaluate each proposal against the factors described in paragraph (a) of this section. The purpose of this review is to identify meritorious proposals, recommend an appropriate funding level for each proposal, and submit the proposals and funding recommendations to appropriate officials within FAS for decision. FAS may, when appropriate to the subject matter of the proposal, request the assistance of other U.S. government experts in evaluating the merits of a proposal.

4. Amend § 1487.8 by revising paragraph (a)(4) to read as follows:

§ 1487.8 How are payments made?

(a) * * *

(4) Participants shall maintain all records and documents relating to TASC projects, including the original documentation which supports reimbursement claims, for a period of three calendar years following the expiration or termination date of the program agreement. Such records and documents will be subject to verification by FAS and shall be made available upon request to authorized officials of the U.S. Government. FAS may deny a claim for reimbursement if the claim is not supported by acceptable documentation.

* * * * *

Dated: November 19, 2008.
Michael W. Yost,
Executive Vice President, Commodity Credit Corporation, and Administrator, Foreign Agricultural Service.

[FR Doc. E8-28613 Filed 12-2-08; 8:45 am]

BILLING CODE 3410-10-P